DEPARTMENT OF DEFENSE

Office of the Secretary

[Docket ID: DoD-2014-OS-0039]

Proposed Collection; Comment Request

AGENCY: Office of the Under Secretary of Defense for Personnel & Readiness, DoD.

ACTION: Notice.

SUMMARY: In compliance with Section 3506(c)(2)(A) of the Paperwork Reduction Act of 1995, the Office of the Under Secretary of Defense for Personnel & Readiness announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by May 23, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Program Manager, Spouse Education & Career Opportunities Program, Office of Family Policy/Children and Youth, Military Community and Family Policy, 4800 Mark Center Drive, Suite 03G15, Alexandria, VA 22350-2300, ATTN: Ms. Meg O'Grady, or 571-372-5316.

SUPPLEMENTARY INFORMATION: Title; Associated Form; and OMB Number: Military Spouse Employment Partnership (MSEP) Career Portal; OMB Control Number 0704-XXXX.

Needs And Uses: This information collection requirement is necessary to allow MSEP Partners to search for military spouse candidates and for military spouses to directly search for employment opportunities with MSEP Partners.

Affected Public: Military spouse users of the MSEP Career Portal, MSEP Partners, Companies.

Annual Burden Hours:

Military Spouses = 900,000

MSEP Partners = 125

Companies = 38

TOTAL = 900,163

Number of Respondents:

Military Spouses = 1.2 million

MSEP Partners = 300 partners

Companies = 150 companies

TOTAL = 1,200,450 respondents

Responses per Respondent: 1

Average Burden per Response:

Military Spouses = 45 minutes

MSEP Partners = 25 minutes

Companies = 15 minutes

TOTAL = 85 minutes

Frequency:

Military Spouses = On occasion

MSEP Partners = On occasion

Companies = Once

The Military Spouse Employment Partnership (MSEP) Career Portal is the web platform utilized to connect military spouses and same-sex spouses with companies seeking to hire military spouse employees. Participating companies, called MSEP Partners, are vetted and approved participants in the MSEP Program and have pledged to recruit, hire, promote and retain military spouses in portable careers. MSEP is a targeted recruitment and employment partnership that connects American businesses with military spouses who possess essential 21st-century workforce skills and attributes and are seeking portable, fulfilling careers. This program was developed in compliance with 10 U.S. Code 1784 Employment Opportunities for Military Spouses which states:

(f) Private-Sector Employment.—The Secretary of Defense—

(1) shall seek to develop partnerships with firms in the private sector to enhance employment opportunities for spouses of members of the armed forces and to provide for improved job portability for such spouses, especially in the case of the spouse of a member of the armed forces accompanying the member to a new geographical area because of a change of permanent duty station of the member; and

(2) shall work with the United States Chamber of Commerce and other appropriate private-sector entities to facilitate the formation of such partnerships.

Dated: March 19, 2014.
Aaron Siegel,
Alternate OSD Federal Register Liaison Officer, Department of Defense.

[FR Doc. 2014-06319 Filed 3-21-14; 8:45 am]

BILLING CODE 5001-06-P